DEPARTMENT OF TRANSPORTATION

Research and Special Programs Administration

[Docket No. RSPA-2001-8761 (Notice No. 01-05)]

Notice of Information Collection Approval

AGENCY: Research and Special Programs Administration (RSPA), DOT.

ACTION: Notice of information collection approval.

SUMMARY: This notice announces OMB approval of information collection requests (ICRs), for OMB No. 2137-0034, “Hazardous Materials Shipping Papers & Emergency Response Information” and OMB No. 2137-0510, “Radioactive (RAM) Transportation Requirements”. These information collections have been extended until January 31, 2004.

DATES: The expiration date for these ICRs is January 31, 2004.

ADDRESSES: Requests for a copy of an information collection should be directed to Deborah Boothe, Office of Hazardous Materials Standards (DHM-10), Research and Special Programs Administration, Room 8422, 400 Seventh Street, SW., Washington, DC 20590-0001.

FOR FURTHER INFORMATION CONTACT: Deborah Boothe, Office of Hazardous Materials Standards (DHM-10), Research and Special Programs Administration, Room 8422, 400 Seventh Street, SW., Washington, DC 20590-0001, Telephone (202) 366-8553.

SUPPLEMENTARY INFORMATION: Office of Management and Budget (OMB) regulations (5 CFR 1320) implementing provisions of the Paperwork Reduction Act of 1995 (P.L. 104-13) require that interested members of the public and affected agencies have an opportunity to comment on information collection and recordkeeping activities (see 5 CFR 1320.8(s)) and specify that no person is required to respond to an information collection unless it displays a valid OMB control number. In accordance with the Paperwork Reduction Act of 1995, RSPA has received OMB approval of the following ICRs:

OMB Control Number: 2137-0034

Title: Hazardous Materials Shipping Papers & Emergency Response Information

OMB Control Number: 2137-0510

Title: Radioactive (RAM) Transportation Requirements

These information collection approvals expire on January 31, 2004.

Issued in Washington, DC on January 23, 2001.
Edward T. Mazzullo,
Director, Office of Hazardous Materials Standards.

[FR Doc. 01-2462 Filed 1-26-01; 8:45 am]

BILLING CODE 4910-60-P